DEPARTMENT OF TRANSPORTATION

Federal Aviation Administration

Notice of Intent To Rule on Request to Release Airport Property at the Fort Worth Spinks Airport, Fort Worth, Texas

AGENCY: Federal Aviation Administration (FAA), DOT.

ACTION: Notice of request to release airport property.

SUMMARY: The FAA proposes to rule and invite public comment on the release of land at the Fort Worth Spinks Airport under the provisions of Section 125 of the Wendell H. Ford Aviation Investment Reform Act for the 21st Century (AIR 21).

DATES: Comments must be received on or before July 1, 2013.

ADDRESSES: Comments on this application may be mailed or delivered to the FAA at the following address: Mr. Mike Nicely, Manager, Federal Aviation Administration, Southwest Region, Airports Division, Texas Airports Development Office, ASW-650, Fort Worth, Texas 76137-0650.

In addition, one copy of any comments submitted to the FAA must be mailed or delivered to the Mr. Bill Welstead, Aviation Director, at the following address: 4201 N. Main St., Suite 200, Fort Worth, TX 76106.

FOR FURTHER INFORMATION CONTACT: Mr. Anthony Mekhail, Program Manager, Federal Aviation Administration, Texas Airports Development Office, ASW-650 2601 Meacham Boulevard, Fort Worth, Texas 76193-0650, Telephone: (817) 222-5663, email: Anthony.Mekhail@faa.gov, fax: (817) 222-5989.

The request to release property may be reviewed in person at this same location.

SUPPLEMENTARY INFORMATION: The FAA invites public comment on the request to release property at the Fort Worth Spinks Airport under the provisions of the AIR 21.

The following is a brief overview of the request:

The City of Fort Worth requests the release of 6.915 acres of non-aeronautical airport property. This property was incorporated into the airport using City and FAA funds through the AIP Program from 1983 to 1987. The property to be released will be sold to allow for the extension of Stone Road along the western boundary of the Airport. Any person may inspect the request in person at the FAA office listed above under FOR FURTHER INFORMATION CONTACT.

In addition, any person may, upon request, inspect the application, notice and other documents relevant to the application in person at the Fort Worth Spinks Airport, telephone number (817) 392-5400.

Issued in Fort Worth, Texas on May 22, 2013.
Kelvin L. Solco,
Manager, Airports Division.

[FR Doc. 2013-12872 Filed 5-30-13; 8:45 am]

BILLING CODE 4910-13-P